DEPARTMENT OF THE INTERIOR

Bureau of Land Management

[LLWY920000.51010000.ER0000.LVRWK09K1000; WYW174597; COC72909; UTU87237]

Notice of Availability of the Draft Environmental Impact Statement and Land-Use Plan Amendments for the Energy Gateway South Transmission Project in Wyoming, Colorado, and Utah

AGENCIES: Bureau of Land Management, Interior.

ACTION: Notice of availability.

SUMMARY: The Bureau of Land Management (BLM) announces the availability of the Draft Environmental Impact Statement (EIS) and Land-Use Plan Amendments for the Energy Gateway South Transmission Project (Project).

DATES: The Draft EIS is now available for public review. The BLM and the U.S. Forest Service (USFS) request that comments be structured so that they are substantive and contain sufficient detail to allow the agencies to address them in the Final EIS. To be considered in the Final EIS, written comments on the Draft EIS must be received within 90 days after the Environmental Protection Agency's publication in the Federal Register of its Notice of Availability of this Draft EIS. The BLM and the USFS will consider timely filed comments and respond to them in the Final EIS.

All public meetings or other opportunities for public involvement related to the Project will be announced by the BLM at least 15 days in advance through public notices, media news releases, Web site announcements, or mailings.

ADDRESSES: Copies of the Draft EIS have been sent to affected Federal, State, and local governments; public libraries in the Project area; and interested parties that previously requested a copy. The Draft EIS and supporting documents will be available electronically on the following BLM Web site: http://www.blm.gov/wy/st/en/info/NEPA/documents/hdd/gateway_south.html. A limited number of DVD copies of the document will be available as supplies last. To request a DVD copy, contact Tamara Gertsch, BLM National Project Manager, BLM, Wyoming State Office, P.O. Box 21150, Cheyenne, WY 82003.

Written comments may be submitted by the following methods:

• Email: GatewaySouth_WYMail@blm.gov.

• Mail: BLM, Wyoming State Office, P.O. Box 21150, Cheyenne, WY 82003.

• Courier or hand delivery: Bureau of Land Management, Energy Gateway South Project, 5353 Yellowstone Road, Cheyenne, WY 82009.

FOR FURTHER INFORMATION CONTACT: Tamara Gertsch, BLM National Project Manager, Bureau of Land Management, Wyoming State Office, P.O. Box 21150, Cheyenne, WY 82003, or by telephone at 307-775-6115. Any persons wishing to be added to a mailing list of interested parties may write or call the BLM National Project Manager at this address or phone number. You may also contact Charles Kenton Call, USFS Project Manager, Dixie National Forest, 1789 North Wedgewood Lane, Cedar City, UT 84721, or by telephone at 435-865-3730.

Persons who use telecommunications devices for the deaf may call the Federal Information Relay Service (FIRS) at 1-800-877-8339 to leave a message or questions for Ms. Gertsch. FIRS is available 24 hours a day, 7 days a week. You will receive a reply during normal business hours.

SUPPLEMENTARY INFORMATION: Copies of the Draft EIS are available for public inspection during normal business hours at the following locations:

• BLM, Wyoming State Office, 5353 Yellowstone Road, Cheyenne, WY 82009

• BLM, Rawlins Field Office, 1300 N. Third St., Rawlins, WY 82301

• BLM, Little Snake Field Office, 455 Emerson St., Craig, CO 81625

• BLM, White River Field Office, 220 East Market St., Meeker, CO 81641

• BLM, Grand Junction Field Office, 2815 H Road, Grand Junction, CO 81506

• BLM, Fillmore Field Office, 35 East 500 North, Fillmore, UT 84631

• BLM, Moab Field Office, 82 East Dogwood, Moab, UT 84532

• BLM, Price Field Office, 125 South 600 West, Price, UT 84501

• BLM, Vernal Field Office,170 South 500 East, Vernal, UT 84078

• BLM, Richfield Field Office, 150 East 900 North, Richfield, UT 84701

• U.S. Forest Service (Lead Forest Office), Dixie National Forest Office, 1789 North Wedgewood Lane, Cedar City, UT 84721

The Draft EIS analyzes the consequences of granting a right-of-way (ROW) to PacifiCorp (doing business as Rocky Mountain Power) for locating a 500-kilovolt (kV), overhead, single-circuit, alternating-current, transmission line beginning near Medicine Bow, Carbon County, Wyoming, at the Aeolus Substation, and extending south and west to the planned Clover Substation near Mona, Juab County, Utah, a distance of between 400 miles and 540 miles (depending on the route selected). The Draft EIS also analyzes the consequences of the USFS issuing special use permits to construct, operate, and maintain those portions of the transmission line which would be located on lands administered by the USFS. The Project would also include a rebuild of two existing 345kV transmission lines between the Clover and Mona Substations (in an existing ROW), reroute of the Mona to Huntington 345kV transmission line through the Clover Substation, and two series compensation stations at points between Aeolus and Clover substations to improve transport capacity and efficiency of the transmission line. Equipment to accommodate the 500kV transmission line would be installed at the Aeolus and Clover substations. The Project is designed to provide up to 1,500 megawatts of capacity to meet current and forecasted needs of Rocky Mountain Power's customers. The BLM, through consultation with other Federal, State, and local cooperating agencies, has included an Agency Preferred Alternative transmission route in the Draft EIS. The following discussions of the Project are specific to the 412-mile-long Agency Preferred Alternative.

The requested ROW width would be 250 feet for the 500kV portion of the Project and 150 feet for the 345kV portion of the Project. Construction is projected to start in 2018. As a general goal, the Agency Preferred Alternative has been located parallel to existing transmission lines and other utilities within the West-wide energy corridors designated pursuant to Section 368 of the Energy Policy Act of 2005 and within other federally designated utility corridors, unless precluded by resource or routing constraints or by technical infeasibility. Approximately 40 miles (10 percent) of the Agency Preferred Alternative is located within designated Federal utility corridors. Transmission line alternatives were developed and analyzed in detail as part of this EIS. These alternatives also cross Federal, State, local, and private lands.

The Draft EIS includes draft amendments of BLM land-use plans (Resource Management Plans) and USFS Land and Resource Management Plans (Forest Plans) that would be needed for the Project under each of the alternative routes. Depending on the alternative selected in the Record of Decision (ROD), the National Park Service may consider applications for the Project across the Deerlodge Road that provides access to Dinosaur National Monument.

By this notice and the Notice of Intent to Prepare an EIS, published in the Federal Register on April 1, 2011 (76 FR 18241), the BLM is providing notice to the public of potential amendments to Resource Management Plans and Forest Plans, as required by 43 CFR 1610.2(c) and 36 CFR 219.8. The impacts of these potential amendments are analyzed in the Draft EIS together with the impacts of the various Project alternative routes.

Your input is important and will be considered in the environmental and land-use planning analysis processes. All comment submissions must include the commenter's name and street address. Comments, including the names and addresses of the commenter, will be available for public inspection at the locations listed below during normal business hours (7:45 a.m. to 4:30 p.m.), Monday through Friday, except Federal holidays. Before including your address, phone number, email address, or any other personal identifying information in your comment, be advised that your entire comment, including your personal identifying information, may be publicly available at any time. While you may ask us in your comment to withhold from public review your personal identifying information, we cannot guarantee that we will be able to do so. PacifiCorp (doing business as Rocky Mountain Power) originally submitted an Application for Transportation and Utility Systems and Facilities on Federal Lands (Standard Form 299) to the BLM and USFS on November 28, 2007. The application was revised by Rocky Mountain Power on December 17, 2008, October 11, 2010, and January 15, 2013, to reflect changes in the Project description and inform the BLM of Rocky Mountain Power's preferred route.

Through planning studies analyzing the electrical power system, Rocky Mountain Power determined its existing system, last upgraded about 25 years ago, needs to be upgraded to ensure sufficient capacity and reliable power is available to its customers. The Project would increase capacity and service reliability for its customers in the region. When completed, the line would transmit up to 1,500 megawatts of electricity. The transmission line would transmit power from both renewable and thermal energy sources. Cooperating agencies currently include Federal, State, and local agencies along all of the alternative routes. The lead agency recognizes 29 cooperating agencies supporting the Project EIS.

To allow the public an opportunity to review the proposal and Project information, the BLM held public meetings from May 10, 2011, to June 2, 2011, in: Baggs, Rock Springs, and Rawlins, Wyoming; Craig, Rangely, and Grand Junction, Colorado; and Roosevelt, Fort Duchesne, Nephi, Price, Mount Pleasant, and Green River, Utah. Issues and potential impacts to specific resources were identified during scoping and preparation of the Draft EIS.

In response to scoping comments, Rocky Mountain Power made alternative route modifications and variations to its Proposed Action in Wyoming, Colorado, and Utah. Some alternative routes presented in scoping were removed from further analysis. Alternative routes that were: (1) Ineffective (i.e., did not meet the agencies' purpose and need); (2) Technically or economically infeasible; (3) Inconsistent with the basic policy objectives of the management of an area (e.g., land-use plans); (4) Remote or speculative (i.e., could not be analyzed); or (5) Substantially similar in design or effects to another alternative route being analyzed were eliminated from further consideration. These route modifications and variations are documented in the Energy Gateway South Transmission Project Siting Study Reportavailable online at http://www.blm.gov/pgdata/etc/medialib/blm/wy/information/NEPA/hddo/gatewaysouth.Par.93351.File.dat/FinalSitingStudyReport.pdf.

In addition to the Proposed Action, the Draft EIS considers the No Action Alternative and 33 alternative routes (including route variations) totaling 1,425 miles in detail. For this Draft EIS, the No Action Alternative means that the BLM ROW and USFS special-use authorization for the Project to cross Federal lands would not be granted and the transmission line and ancillary facilities would not be constructed.

The BLM, in coordination with the USFS and other Federal, State, and local governments and agencies, developed the Agency Preferred Alternative through a comparative evaluation of routing opportunities and constraints and the relative potential impacts among the various alternative routes and route variations. The Agency Preferred Alternative is derived from currently available information and is not a decision. The BLM is inviting the public to offer comments on the Agency Preferred Alternative, as well as other alternative routes and route variations presented in the document.

The Draft EIS analyzes the potential environmental consequences of granting a ROW to Rocky Mountain Power to construct, operate, and maintain a 500kV transmission line from the Aeolus Substation (near Medicine Bow, Carbon County, Wyoming) to the planned Clover Substation (near Mona, Juab County, Utah) and ancillary facilities. The approximately 412-mile Agency Preferred Alternative is discussed below.

The Agency Preferred Alternative for this Project is the combination of routes named Alternative WYCO-B-2 (a route variation of WYCO-B) and Alternative COUT-C-3 (a route variation of Alternative COUT-C).

The Alternative WYCO-B-2 portion of the Agency Preferred Alternative route exits the Aeolus Substation within the utility corridor designated by the Wyoming Executive Order 2011-5 for protection of sage-grouse, continuing to the southwest where it crosses Interstate 80 approximately 10 miles east of Sinclair, Wyoming. This Agency Preferred Alternative route (described below as the route) continues west on the southern side of Interstate 80 (approximately 3 to 5 miles south) for approximately 57 miles. The route then parallels Wamsutter Road (on the east side of the road) south for approximately 15 miles. At that point, the route continues southwest crossing Flat Top Mountain and continues toward the Wyoming and Colorado border, approximately 20 miles west of Baggs, Wyoming.

The route continues south/southwest through the Sevenmile Ridge area where it crosses the Little Snake River, the western edge of the Godiva Rim, and Colorado State Highway 318 in an area approximately 10 miles northwest of Maybell, Colorado. The route continues south, crossing the Yampa River 5 miles northeast of Cross Mountain Gorge to a point near U.S. Highway 40 approximately 12 miles southwest of Maybell. At that point, the route avoids the Tuttle Ranch Conservation Easement by paralleling U.S. Highway 40 on the north and crossing the Deerlodge Road, the eastern entrance to Dinosaur National Monument. The route then crosses the highway and continues southwest paralleling the Bonanza to Bears Ears 345kV and the Hayden to Artesia 138kV transmission lines for approximately 22 miles south of U.S. Highway 40 to approximately 20 miles east of Dinosaur, Colorado.

The Alternative COUT-C-3 portion of the Agency Preferred Alternative route begins at a point northeast of Rangely, Colorado, where Alternative WYCO-B-2 ends. From this point, the route continues to parallel the Bears Ears to Bonanza 345kV and the Hayden to Artesia 138kV transmission lines to the west toward the Colorado/Utah border.

This Agency Preferred Alternative alternative route continues to follow the Bears Ears to Bonanza 345kV transmission line southwest toward the Bonanza Power Plant. The route then continues west/southwest following an underground pipeline through the Uinta Basin and crossing the Green River approximately 8 miles north of Sand Wash boat launch, continuing west toward the western end of the Tavaputs Plateau. Within the plateau, it traverses through Argyle Ridge for approximately 12 miles dropping southwest toward U.S. Highway 191. Following the highway through Indian Canyon for approximately 2 miles; it then crosses the highway heading west/northwest into the Emma Park area (approximately 11 miles north of Helper, Utah) toward Soldier Summit for a distance of approximately 21 miles avoiding sage-grouse leks/habitat to the south and the Reservation Ridge Scenic Backway (designated by the USFS) to the north.

It continues west toward U.S. Highway 6 and parallels the Spanish Fork to Carbon 138kV transmission line northwest for approximately 25 miles through an area near Sheep Creek. It continues to parallel the Bonanza to Mona 345kV transmission line toward Thistle, Utah, turning south and crosses U.S. Highway 89 near Birdseye, Utah, continuing south/southwest to a point approximately 5 miles north of Fountain Green, Utah. The route continues to parallel the Bonanza to Mona 345kV transmission line west through Salt Creek Canyon, south of Mount Nebo, toward Nephi, Utah, and the Clover Substation.

The BLM, the USFS, and cooperating agencies worked together to develop alternative routes that would conform to existing Federal land-use plans. However, this objective was not reached for a number of the alternative routes analyzed in the Draft EIS. Plan amendments that would be necessary to implement each of the evaluated alternatives were identified by affected agencies and analyzed in Chapter 5 of the Draft EIS. The specific land-use plan amendments that are needed will depend on which alternative route is selected in the BLM's ROD if the BLM makes a decision to approve the ROW application. Proposed plan amendments may be protested to the BLM Director at the Final EIS stage (43 CFR 1610.5-2). The decision to offer a ROW grant may be appealed to the Interior Board of Land Appeals (43 CFR 2801.10) after the BLM issues its ROD.

The USFS's draft ROD, which would describe whether or not any special use permits will be issued, and would describe if any project-level Forest Plan amendments will be made, may be objected to using the pre-decisional objection procedures described in 36 CFR 218 subparts A and B. Legal notice of such opportunity to object will appear in the applicable newspapers of record at the appropriate time (36 CFR 218.26).

In the Final EIS, the BLM will identify the agency-selected alternative and the requisite proposed plan amendments necessary to implement that alternative.

The Agency Preferred Alternative identified in the Draft EIS would involve nine plan amendments (in five BLM Field Offices and one National Forest). The following land-use plan amendments may be needed to bring the Project into conformance with the applicable Resource Management Plans for BLM-managed land and Land and Resource Management Plans (Forest Plans) for National Forest System land crossed by the Project, depending on Project approval and on the final route selected. All prospective plan amendments will comply with applicable Federal laws and regulations, be analyzed in the Project EIS, and apply only to Federal lands and mineral estates administered by the BLM or the USFS.

Rawlins Field Office Resource Management Plan (RMP) (2): Conversion of an underground utility corridor to include aboveground utilities and amending segments of the utility ROW from Visual Resource Management (VRM) Class III to Class IV.

Little Snake Field Office RMP (2): Area within the Project's ROW determined to be noncompliant with VRM Class III objectives would be amended to Class IV.

White River Field Office RMP (5): The approved RMP would be amended for decisions regarding ROW exclusion areas for listed plant species. Area within the Project's ROW determined to be noncompliant with VRM Class III objectives would be amended to Class IV where the Project with appropriate selective mitigation measures may still exceed the acceptable level of change that could occur within a specific VRM class after mitigation. Amend the Dragon Trail-Atchee Ridge utility corridor to include overhead linear facilities. If, after application of all feasible measures to reduce impacts to the amendments above, exceptions for the Project could be granted by the Field Manager to allow for the construction, operation, and maintenance of the Project in areas that are in conflict with the plan.

Grand Junction Field Office RMP (1): The area within the Project's ROW determined to be noncompliant with VRM Class III objectives would be amended to Class IV.

Salt Lake City Field Office RMP (1): Amend the RMP to include the Project ROW as a utility corridor.

Price Field Office RMP (5): Amended to Class IV the areas within the Project's ROW determined to be noncompliant with VRM Class III objectives. An exception for the exclusion for ROW grants for the Project to occur within the Rock Art ACEC for 0.2 mile. Amend the existing Interstate 70 utility corridor to 1.5 miles in width.

Vernal Field Office RMP (5): Amend the RMP to address the areas within the Project's ROW determined to be noncompliant with VRM Class II and III objectives would be adjusted to Class III and IV.

Moab Field Office RMP (3): The areas within the Project's ROW determined to be noncompliant with VRM Class III objectives would be amended to Class IV.

Manti-La Sal National Forest Land and Resource Management Plan (LRMP) (1): Amend the LRMP to address the area within the Project ROW that is inconsistent with partial retention Visual Quality Objectives (VQO) that could not be mitigated through application of selective mitigation measures would be amended from a partial retention VQO to a modification VQO.

Ashley National Forest LRMP (2): The areas within the Project ROW that are inconsistent with a retention and partial retention VQO that could not be mitigated through application of selective mitigation measures would be amended from a retention VQO to a modification VQO.

Uinta-Wasatch-Cache National Forest LRMP (1): The area within the Project ROW that is inconsistent with the utility corridor limitations would be amended to include the Project ROW under the applicable utility corridor.

The BLM will utilize and coordinate the National Environmental Policy Act comment process to satisfy the public involvement process for Section 106 of the National Historic Preservation Act (16 U.S.C. 470f), as provided for in 36 CFR 800.2(d)(3). Ongoing consultations with Native American tribes will continue in accordance with policy and tribal concerns, including impacts on Indian trust assets, will be given due consideration. Federal, State, and local agencies, along with other stakeholders that may be interested or affected by the BLM's decision on this Project, are invited to participate.

The USFS project-specific decisions regarding whether or not to issue the special use permits and project-specific Forest Plan amendments that the USFS will decide whether or not to make: the Notice of Intent to prepare the EIS was published on April 1, 2011. The proposed action is a project or activity implementing a land management plan and is not authorized under the Healthy Forest Restoration Act; therefore, it is subject to subparts A and B of 36 CFR Part 218. After the Notice of Intent to prepare the EIS was published, regulations at 36 CFR Parts 215 and 218 were modified to change the administrative review process for proposed USFS projects implementing land and resource management plans; 78 FR 18481. Under 36 CFR 218.16, for all decisions implementing land management plans issued after September 27, 2013, the USFS is required to follow the pre-decisional administrative review process under 36 CFR Part 218, which replaced the process for notice, comment, and appeal under 36 CFR Part 215 that was in effect when this project was proposed. Further, the amended rule requires that the USFS provide notice that the project proposal will be subject to the pre-decisional review process. The regulation further provides that “all interested and affected parties who provided written comment as defined in subsection 218.2 during scoping or the comment period will be eligible to participate in the objections process.” 36 CFR 218.16(b)(3). The purpose of this paragraph is to provide notice that the proposed decisions made by the USFS for this project will be subject to the pre-decisional review process in 36 CFR Part 218 subparts A and B.

Donald A. Simpson,
Wyoming State Director.

[FR Doc. 2014-03683 Filed 2-20-14; 8:45 am]

BILLING CODE 4310-22-P